DEPARTMENT OF TRANSPORTATION

Federal Transit Administration

National Aging and Disability Transportation Center (NADTC) Under FTA's Technical Assistance Program

AGENCY: Federal Transit Administration (FTA), DOT.

ACTION: Notice; Request for Proposals (RFP).

SUMMARY: The Federal Transit Administration (FTA) is soliciting proposals under the Moving Ahead for Progress in the 21st Century Act's Section 5314 Technical Assistance and Standards Development Program from national non-profit organizations for a cooperative agreement to fund a National Aging and Disability Transportation Center (NADTC). FTA is releasing this notice of funding availability to promote the availability and accessibility of transportation options that serve the needs of people with disabilities, seniors and caregivers with a focus on effectively leveraging MAP-21 Section 5310 (5310) Enhanced Mobility of Seniors and Individuals with Disabilities Formula Grants and other transit investments. The NADTC builds upon twenty-five years of investment in accessible transportation training and technical assistance that improves mobility for seniors and individuals with disabilities throughout the country by removing barriers to transportation services and expanding community transportation mobility options.

DATES: Complete proposals must be submitted electronically by 11:59 p.m., Eastern Time on March 31, 2015. All proposals must be submitted electronically through the “GRANTS.GOV” APPLY function. Interested organizations that have not already done so should initiate the process of registering on the GRANTS.GOV site immediately to ensure completion of registration before the deadline for submission.

ADDRESSES: Proposals must be submitted electronically to http://www.Grants.Gov.

FOR FURTHER INFORMATION CONTACT: For general program information, as well as proposal-specific questions, please send an email to Hendrik.opstelten@dot.gov or call Rik Opstelten at (202)-366-8094. A TDD is available at 1-800-877-8339 (TDD/FIRS).

SUPPLEMENTARY INFORMATION:

I. Overview

The Federal Transit Administration (FTA) is soliciting proposals to create a technical assistance center called the National Aging and Disability Transportation Center (NADTC). The need for accessible transportation that supports independent community living is growing in the United States. The U.S. Census Bureau American Community Survey in 2012 estimates that over 12 percent of the U.S. population (38 million) living in the community has a disability—up 2 percent from 2009. As people age, some will acquire a disability. For the fastest growing population in the U.S., older adults over 65 (over 42 million people), the disability rate for those seniors living in the community was 36 percent in 2012. By 2030, people over 65 are expected to comprise 20 percent of the US population—72.1 million people. Employment and poverty rates also disproportionately negatively affect people with disabilities. More resources are needed to help communities build ladders of opportunity so everyone can have access to a job, healthcare, a home in the community of their choice, recreation/leisure opportunities and education. Our communities greatly benefit by ensuring full inclusion for everyone regardless of their age, disability, income, and education level. Accessible public transportation, including the over $280 million spent in 5310 projects is an important enabler of the American Dream for many people. This center will make a significant difference in helping communities ensure the contributions of public transportation, including high impact 5310 projects that improve mobility for people with disabilities and seniors.

Ladders of opportunity build upon the legacy of United We Ride extending coordination to ensure persons of low income, disadvantaged communities and all groups benefit from coordinated planning activities and the resulting projects. So, targeting activities to address low income seniors, caregivers, and people with disabilities or those living in communities with limited resources, is an important component of this center's efforts. The NADTC will carry-out activities that demonstrate impact and achieve the below goals:

• Promoting the essential role of accessible public transportation in furthering the economic inclusion, access to healthcare, links to education, connections to recreation/leisure activities, and independent living of people with disabilities and seniors;

• Increasing the effectiveness, efficiency and quality of coordinated human service transportation activities;

• Ensuring that the planning of transportation services for people with disabilities, seniors and caregivers is done in conjunction with broader planning activities at all levels;

• Highlighting and assisting in the development of promising practices, including the use of technology, to solve transportation challenges, maximizing the effectiveness of federal investments in specialized transportation services.

The NADTC will achieve their goals through the following functions:

• Training: Developing training materials in accessible transportation for people with disabilities and seniors that is online and available 24/7;

• Peer Networks: Encouraging peer exchanges through webinars and online forums;

• Product Development: Creating high quality useful products on topics associated with the above goals;

• Targeted Technical Assistance: Providing targeted technical assistance at the state and local level;

• 800# Information and Referral: Supporting an 800# for ad hoc information referral and technical assistance that tracks trends, connects with other I&R resources, helps seniors and people with disabilities find a ride, and catalogs customer data;

• Online Tools: Maintaining a compelling Web site and online presence including a monthly newsletter and use of social media to promote promising practices;

• Community Grants: As FTA deems feasible and necessary, take some portion of overall funding per year to provide community grants that enhance accessibility and encourage innovation;

• Outreach: Implementing a yearly outreach project to publicize the resources, activities and findings of the center;

• Technology: monitor and promote emerging technologies that facilitate accessibility, wayfinding, scheduling/dispatching, one call and evolving public/private sector partnerships that can improve access to transportation options and improve mobility;

• Information Clearinghouse: Acting as a clearinghouse for useful and promising practices in human services transportation and provide online access to success stories;

• Community Accessibility Scorecard: Developing and maintaining a community accessibility scorecard and index to help communities easily assess where they are, what needs exist in their community and where gaps may exist—targeted technical assistance would then be available to address these gaps and help the community develop a roadmap to expanding accessible transportation;

• Broad Stakeholder Review Committees: Ensuring that people with disabilities and seniors themselves as well as the human services organizations that provide services for these individuals collaborate along with FTA in the work of the center and help to oversee and review materials, training courses and other activities;

• Bridging Research to Practice: Connecting research to practice by bridging the research efforts of university transit centers, gerontology university programs, university disability centers, evolving technology initiatives and TRB project findings with the training and technical assistance activities of the center;

• Yearly Trends Report: Writing a yearly state of accessible transportation report that identifies key trends, key issues, sustainable solutions and recommends areas of focus in accessible transportation to support the development of the following year's statement of work;

• Program Evaluation: Supporting a robust program evaluation component by an outside source that does a yearly assessment of the center including surveying key stakeholders on the utility they derived in working with the center;

FTA intends to fund the NADTC at up to $ 2,500,000 for the first year with the option to extend for up to four additional years. FTA's decision to exercise these options will depend upon: 1) Decisions and program priorities established by the Secretary of Transportation related to the implementation of provisions set forth in Section 5314, Technical Assistance and Standards, of the Moving Ahead for Progress in the 21st Century Act (MAP-21); 2) future appropriations; and, 3) annual reviews of the NADTC's performance. The announcement below connects to the solicitation and describes the goals, functional activities, and evaluation measures established for the NADTC; the proposal submission process; and criteria upon which proposals will be reviewed.

This announcement is available on the FTA's Web site at: http://WWW.FTA.DOT.GOV/GRANTS/13077.HTML. The funding opportunity RFP is posted in the FIND module of the government-wide electronic grants Web site at http://www.grants.gov.

Therese McMillan,
Acting Administrator.

[FR Doc. 2015-02378 Filed 2-5-15; 8:45 am]

BILLING CODE P